DEPARTMENT OF TRANSPORTATION

Federal Aviation Administration

14 CFR Part 95

[Docket No. 30722; Amdt. No. 487]

IFR Altitudes; Miscellaneous Amendments

AGENCY: Federal Aviation Administration, DOT.

ACTION: Final rule.

SUMMARY: This amendment adopts miscellaneous amendments to the required IFR (instrument flight rules) altitudes and changeover points for certain Federal Airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, June 3, 2010.

FOR FURTHER INFORMATION CONTACT: Harry Hodges, Flight Procedure Standards Branch (AMCAFS-420), Flight Technologies and Programs Division, Flight Standards Service, Federal Aviation Administration, Mike Monroney Aeronautical Center, 6500 South MacArthur Blvd. Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal Airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 30, 2010.
James J. Ballough,
Director, Flight Standards Service.

Adoption of the Amendment

Accordingly, pursuant to the authority delegated to me by the Administrator, part 95 of the Federal Aviation Regulations (14 CFR part 95) is amended as follows effective at 0901 UTC, June 03, 2010.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 487 final effective date, June 03, 2010]
From | To | MEA
§ 95.1001 Direct Routes-U.S.
Color Routes
§ 95.510 GREEN Federal Airway G10 is amended to Read in Part
Cape Newenham, AK NDB/DME | ST Paul Island, AK NDB/DME | #4600
#HF COMMS Requred Below 8000

From | To | MEA | MAA
§ 95.3000 Low Altitude RNAV Routes
§ 95.3254 RNAV Route T254 is Amended to Delete
Centex, TX VORTAC | College Station, TX VORTAC | *3000 | 10000
*2100-MOCA
Is Amended to Read in Part
College Station, TX VORTAC | EAKES, TX FIX | 3000 | 15000
Eakes, TX FIX | Crepo, TX FIX | 3100 | 15000
Crepo, TX FIX | Lake Charles, LA VORTAC | 2200 | 15000

From | To | MEA
§ 95.6001 Victor Routes-U.S.
§ 95.6004 VOR Federal Airway V4 is Amended to Read in Part
*Italy, WV FIX | REACH, WV FIX | 4000
*4000-MRA
Reach, WV FIX | ELKINS, WV VORTAC | 4400
Elkins, WV VORTAC | Kessel, WV VOR/DME | 6400
§ 95.6005 VOR Federal Airway V5 is Amended to Read in Part
Louisville, KY VORTAC | NERVE, KY FIX | *10000
*2700-GNSS MEA
§ 95.6006 VOR Federal Airway V6 is Amended to Read in Part
Nanci, NY FIX | La Guardia, NY VOR/DME | 2600
§ 95.6011 VOR Federal Airway V11 is Amended to Read in Part
Greene County, MS VORTAC | SOSOE, MS FIX | *4000
*1800-MOCA
*3000-GNSS MEA
§ 95.6013 VOR Federal Airway V13 is Amended to Read in Part
Ascot, TX FIX | Solon, TX FIX | *4000
*1500-MOCA
Cleep, TX FIX | *Legge, TX FIX | 3100
*3000-MRA
Napoleon, MO VORTAC | LAMONI, IA VORTAC | 2900
§ 95.6014 VOR Federal Airway V14 is Amended to Read in Part
Shalo, TX FIX | Lubbock, TX VORTAC | *5100
*5000-GNSS MEA
§ 95.6020 VOR Federal Airway V20 is Amended to Read in Part
Mc Allen, TX VOR/DME | Latex, TX FIX | 1700
Latex, TX FIX | Ascot, TX FIX | *4000
*1900-MOCA
Ascot, TX FIX | Solon, TX FIX | *4000
*1500-MOCA
Betzy, TX FIX | Palacios, TX VORTAC | 2000
§ 95.6038 VOR Federal Airway V38 is Amended to Read in Part
Sacky, WV FIX | *Julea, WV FIX | 3000
*5000-MRA
*Julea, WV FIX | Benzo, WV FIX | 3300
*5000-MRA
Benzo, WV FIX | Elkins, WV VORTAC | 4000
§ 95.6051 VOR Federal Airway V51 is Amended to Read in Part
#ALMA, GA VORTAC | #DUBLIN, GA VORTAC | *3000
*2000-GNSS MEA
#ALMA R-345 Unusable, Use Dublin R-170
§ 95.6062 VOR Federal Airway V62 is Amended to Read in Part
Spade, TX FIX | Lubbock, TX VORTAC | *5700
*4800-MOCA
*5000-GNSS MEA
§ 95.6070 VOR Federal Airway V70 is Amended to Read in Part
*Raymo, TX FIX | JIMIE, TX FIX | **4000
*5000-MRA
**1600-MOCA
Jimie, TX FIX | Jetty, TX FIX | *4000
*1800-MOCA
Betzy, TX FIX | Palacios, TX VORTAC | 2000
§ 95.6071 VOR Federal Airway V71 is Amended to Read in Part
*Wrack, LA FIX | NATCHEZ, MS VOR/DME | **3500
*4000-MRA
**2200-MOCA
**2200-GNSS MEA
§ 95.6077 VOR Federal Airway V77 is Amended to Read in Part
Abilene, TX VORTAC | Wichita Falls, TX VORTAC | *3900
*3400-MOCA
§ 95.6088 VOR Federal Airway V88 is Amended to Read in Part
Narci, OK FIX | Wacco, MO FIX | *8000
*3100-MOCA
*4000-GNSS MEA
§ 95.6099 VOR Federal Airway V99 is Amended to Read in Part
La Guardia, NY VOR/DME | OUTTE, CT FIX | *4000
*1700-MOCA
Outte, CT FIX | Sorry, CT FIX | *4000
*2600-MOCA
§ 95.6102 VOR Federal Airway V102 is Amended to Read in Part
Ralls, TX FIX | Guthrie, TX VORTAC | *5000
*4500-MOCA
§ 95.6106 VOR Federal Airway V106 is Amended to Read in Part
Weard, NY FIX | *Weets, NY FIX | 6000
*6000-MRA
§ 95.6123 VOR Federal Airway V123 is Amended to Read in Part
Minks, NJ FIX | La Guardia, NY VOR/DME | 2600
§ 95.6155 VOR Federal Airway V155 is Amended to Read in Part
#Lawrenceville, VA VORTAC | *MANGE, VA FIX | **4000
*5000-MRA
**2000-GNSS MEA
#R-042 UNUSABLE.
*Mange, VA FIX | Melia, VA FIX | **5000
*5000-MRA
**1800-MOCA
**2000-GNSS MEA
§ 95.6157 VOR Federal Airway V157 is Amended to Read in Part
#Lawrenceville, VA VORTAC | DALTO, VA FIX | *4000
*2000-GNSS MEA
#R-042 UNUSABLE.
Minks, NJ FIX | La Guardia, NY VOR/DME | 2600
§ 95.6159 VOR Federal Airway V159 is Amended to Read in Part
Holly Springs, MS VORTAC | Gilmore, AR VOR/DME | 2500
Napoleon, MO VORTAC | St Joseph, MO VORTAC | 2900
§ 95.6161 VOR Federal Airway V161 is Amended to Read in Part
Napoleon, MO VORTAC | Lamoni, IA VORTAC | 2900
§ 95.6163 VOR Federal Airway V163 is Amended to Read in Part
Ascot, TX FIX | Solon, TX FIX | *4000
*1500-MOCA
§ 95.6166 VOR Federal Airway V166 is Amended to Read in Part
Clarksburg, WV VOR/DME | Tygar, WV FIX | 3600
Tygar, WV FIX | Ugjob, WV FIX | 4700
Ugjob, WV FIX | Kessel, WV VOR/DME | 6300
§ 95.6178 VOR Federal Airway V178 is Amended to Read in Part
Lexington, KY VORTAC | Trent, KY FIX | 3400
Trent, KY FIX | Slink, WV FIX | *8000
*4200-GNSS MEA
Slink, WV FIX | Bluefield, WV VORTAC | *6000
*5400-GNSS MEA
§ 95.6205 VOR Federal Airway V205 is Amended to Read in Part
Weard, NY FIX | *Weets, NY FIX | 6000
*6000-MRA |  | MAA-14500
§ 95.6209 VOR Federal Airway V209 is Amended to Read in Part
Semmes, AL VORTAC | Janes, AL FIX | *2300
*1800-MOCA
*2000-GNSS MEA
Janes, AL FIX | Kewanee, MS VORTAC | 2300
§ 95.6212 VOR Federal Airway V212 is Amended to Read in Part
Oscer, TX FIX | Lufkin, TX VORTAC | *4000
*2000-MOCA
§ 95.6222 VOR Federal Airway V222 is Amended to Read in Part
Humble, TX VORTAC | Beaumont, TX VOR/DME | 3100
Maxon, LA FIX | *Wrack, LA FIX | **6000
*4000-MRA
**1800-MOCA
**2000-GNSS MEA
*Wrack, LA FIX | Mc Comb, MS VORTAC | **4000
*4000-MRA
**2000-MOCA
§ 95.6257 VOR Federal Airway V257 is Amended to Read in Part
Scaat, MT FIX | Siebe, MT FIX | *13000
*9800-MOCA
*9800-GNSS MEA
§ 95.6268 VOR Federal Airway V268 is Amended to Read in Part
Indian Head, PA VORTAC | Hagerstown, MD VOR | *12000
*4600-MOCA
*4700-GNSS MEA
Kemar, MD FIX | Westminster, MD VORTAC | *4000
*2600-MOCA
*2700-GNSS MEA
§ 95.6278 VOR Federal Airway V278 is Amended to Read in Part
*Nifde, TX FIX | Bowie, TX VORTAC | **4500
*6500-MRA
**2600-MOCA
**3300-GNSS MEA
§ 95.6369 VOR Federal Airway V369 is Amended to Read in Part
Navasota, TX VORTAC | Groesbeck, TX VOR/DME | *2300
*1900-MOCA
§ 95.6377 VOR Federal Airway V377 is Amended to Read in Part
Hagerstown, MD VOR | HARRISBURG, PA VORTAC | *5000
*3800-MOCA
*4000-GNSS MEA
§ 95.6407 VOR Federal Airway V407 is Amended to Read in Part
Jimie, TX FIX | Jetty, TX FIX | *4000
*1800-MOCA
§ 95.6427 VOR Federal Airway V427 is Amended to Read in Part
Monroe, LA VORTAC | *Pecks, MS FIX | **5000
*2800-MRA
**1900-MOCA
§ 95.6433 VOR Federal Airway V433 is Amended to Read in Part
Tickl, NY FIX | La Guardia, NY VOR/DME | 2600
La Guardia, NY VOR/DME | Dunbo, NY FIX | 2000
Pawling, NY VOR/DME | *Cyper, NY FIX | 6100
*10000-MRA
*Cyper, NY FIX | #Rockdale, NY VOR/DME | **10000
*10000-MRA
**6100-GNSS MEA
#RKA R-127 UNUSABLE BELOW 10000'
§ 95.6445 VOR Federal Airway V445 is Amended to Read in Part
Nanci, NY FIX | La Guardia, NY VOR/DME | 2600
§ 95.6475 VOR Federal Airway V475 is Amended to Read in Part
La Guardia, NY VOR/DME | Dunbo, NY FIX | 2000
§ 95.6476 VOR Federal Airway V476 is Amended to Read in Part
Lynchburg, VA VORTAC | Gordonsville, VA VORTAC | 3300
§ 95.6487 VOR Federal Airway V487 is Amended to Read in Part
La Guardia, NY VOR/DME | Dunbo, NY FIX | 2000
§ 95.6556 VOR Federal Airway V556 is Amended to Read in Part
Keeds, TX FIX | Scholes, TX VORTAC | 3100
§ 95.6565 VOR Federal Airway V565 is Amended to Read in Part
College Station, TX VORTAC | Lufkin, TX VORTAC | *4000
*2000-MOCA
§ 95.6319 Alaska VOR Federal Airway V319 is Amended to Read in Part
Wiler, AK FIX | *Anchorage, AK VOR/DME | **13000
*5000-MCA Anchorage, AK VOR/DME, E BND
**7000-MOCA
**7000-GNSS MEA
§ 95.6322 Alaska VOR Federal Airway V322 is Amended to Read in Part
King Salmon, AK VORTAC | Konic, AK FIX | *5000
*5000-MOCA
Konic, AK FIX | Worri, AK FIX | *9000
*7700-MOCA
*7700-GNSS MEA
Mallt, AK FIX | Homer, AK VOR/DME
| SW BND | 9000
| NE BND | 4000
§ 95.6452 Alaska VOR Federal Airway V452 is Amended to Read in Part
Zomby, AK FIX | HORSI, AK FIX | *8000
*4000-MOCA
*7000-GNSS MEA, E BND
*4000-OPPOSITE GNSS MEA, W BND
§ 95.6453 Alaska VOR Federal Airway V453 is Amended to Read in Part
Bethel, AK VORTAC | UNALAKLEET, AK VOR/DME | *11000
*4900-MOCA
*6000-GNSS MEA
§ 95.6489 Alaska VOR Federal Airway V489 is Amended to Read in Part
Zomby, AK FIX | Horsi, AK FIX | *8000
*4000-MOCA
*7000-GNSS MEA, E BND
*4000-OPPOSITE GNSS MEA, W BND
§ 95.6506 Alaska VOR Federal Airway V506 is Amended to Read in Part
Bethel, AK VORTAC | Marsi, AK FIX
| W BND | 16000
| E BND | 2000
Marsi, AK FIX | JOHNI, AK FIX | #*16000
*3200-MOCA
*4000-GNSS MEA
#MEA GAP. Continuous Navigation Coverage Does Not Exist Below 16000 Between BET 109NM and OME 113NM.

From | To | MEA | MAA
§ 95.7001 Jet Routes
§ 95.7037 Jet Route J37 is Amended to Delete in Part
Massena, NY VORTAC | U.S. Canadian Border | 18000 | 45000
§ 95.7055 Jet Route J55 is Amended to Delete in Part
Presque Isle, ME VOR/DME | U.S. Canadian Border | 18000 | 45000
§ 95.8003 VOR Federal Airway Changeover Points Airway Segment V161 is Amended to Add Changeover Point
Napoleon, MO VORTAC | Lamoni, IA VORTAC | 40 | Napoleon
V278 is Amended to Add Changeover Point
Guthrie, TX VORTAC | Bowie, TX VORTAC | 64 | Guthrie
V4 is Amended to Add Changeover Point
Charleston, WV VORTAC | Elkins, WV VORTAC | 27 | Charleston
V571 is Amended to Add Changeover Point
Humble, TX VORTAC | Navasota, TX VORTAC | 24 | Humble
V574 is Amended to Add Changeover Point
Navasota, TX VORTAC | Humble, TX VORTAC | 18 | Navasota
V77 is Amended to Add Changeover Point
Abilene, TX VORTAC | Wichita Falls, TX VORTAC | 56 | Abilene
Alaska V488 is Amended to Add Changeover Point
Fairbanks, AK VORTAC | Tanana, AK VOR/DME | 69 | Fairbanks
Alaska V531 is Amended to Add Changeover Point
Fairbanks, AK VORTAC | Tanana, AK VOR/DME | 69 | Fairbanks
Tanana, AK VOR/DME | Huslia, AK VOR/DME | 40 | Tanana

[FR Doc. 2010-10654 Filed 5-5-10; 8:45 am]

BILLING CODE 4910-13-P